ENVIRONMENTAL PROTECTION AGENCY

[ER-FRL-8588-4]

Environmental Impacts Statements; Notice of Availability

Responsible Agency: Office of Federal Activities, General Information (202) 564-1399 or http://www.epa.gov/compliance/nepa/.

Weekly receipt of Environmental Impact Statements.

Filed 12/01/2008 through 12/05/2008.

Pursuant to 40 CFR 1506.9.

EIS No. 20080499, Final EIS, NPS, MD, White-Tailed Deer Management Plan, Preferred Alternative is Alternative C, Implementation, Catocin Mountain Park, Frederick and Washington Counties, MD, Wait Period Ends: 01/12/2009, Contact: Sean Denniston, 301-416-0536.

EIS No. 20080500, Final EIS, DHS, 00, National Bio and Agro-Defense Facility, Preferred Alternative is (2) Manhattan Campus Site, Propose to Site, Construct and Operate at one of the Proposed Locations: (1) South Milledge Avenue Site, Clarke County, GA; (2) Manhattan Campus Site, Riley County, KS; (3) Flora Industrial Park Site, Madison County, MS; (4) Plum Island Site, Suffolk County, NY; (5) Umstead Research Park Site, Granville County, NC; and (6) Texas Research Park Site, Bexar and Medina Counties, TX, Wait Period Ends: 01/12/2009, Contact: James V. Johnson, 202-254-6098.

EIS No. 20080501, Final EIS, AFS, 00, Wild and Scenic River Suitability Study for National Forest System Lands on the Ashley, Dixie, Fishlake, Manti-La Sal, Uinta and Wasatch-Cache National Forests in UT and Portion of National Forests extend into Colorado and Wyoming, several counties, UT, Montrose County, CO and Uinta County, WY, Wait Period Ends: 01/12/2009, Contact: Catherine Kahlow, 801-236-3412.

EIS No. 20080502, Draft EIS, FTA, WA, East Link Rail Transit Project, Proposes to Construct and Operate an Extension of the Light Rail System from downtown Seattle to Mercer Island, Bellevue, and Redmond via Interstate 90, Funding and U.S. Army COE Section 404 and 10 Permits, Seattle, WA, Comment Period Ends: 02/25/2009, Contact: Johnn Witmer, 206-220-7964.

EIS No. 20080503, Draft EIS, NRC, PA, GENERIC—License Renewal of Nuclear Plants, Supplement 37 to NUREG-1437, Regarding Three Mile Island Nuclear Station, Unit 1, in Londonterry Township in Dauphin County, PA, Comment Period Ends: 03/04/2009, Contact: Sarah L. Lopas 301-415-1147.

EIS No. 20080504, Final EIS, FRC, MD, Sparrows Point Liquefied Natural Gas (LNG) Import Terminal Expansion and Natural Gas Pipeline Facilities, Construction and Operation, Application Authorization, U.S. COE Section 10 and 404 Permits, Baltimore County, MD, Wait Period Ends: 01/12/2009, Contact: Patricia Schaub, 1-866-208-3372.

EIS No. 20080505, Final EIS, FHW, IN, US 31 Improvement Project (I-465 to IN 38), between I-465 North Leg and IN-38, NPDES Permit and U.S. Army Section 10 and 404 Permits, Hamilton County, IN, Wait Period Ends: 01/12/2009, Contact: Larry Heil, 317-226-7480.

EIS No. 20080506, Draft EIS, USA, GA, Maneuver Center of Excellence at Fort Benning, Georgia Project, Proposed Community Services, Personnel Support, Classroom Barracks, and Dining Facilities would be Constructed in three of the four Cantonment Areas, Fort Benning, GA, Comment Period Ends: 01/26/2009, Contact: Bob Ross, 703-602-2878.

EIS No. 20080507, Final EIS, FHW, CA, CA-76 Corridor Project, Transportation Improvements from Melrose Drive to South Mission Road, San Diego County, CA, Wait Period Ends: 01/16/2009, Contact: Susanne Glasgow, 619-688-0100.

EIS No. 20080508, Draft EIS, COE, OH, Lorain Harbor. Ohio Federal Navigation Project, Dredged Material Management Plan, Implementation, Lorain Harbor, Lorain County, Ohio, Comment Period Ends: 01/30/2009, Contact: William Butler, 716-879-4268.

EIS No. 20080509, Final EIS, IBR, ND, Northwest Area Water Supply Project, To Construct a Biota Water Treatment Plant, Lake Sakakawea, Missouri River Basin to Hudson Bay Basin, Divide, Williams, Burke, Renville, Bottineau, Pierce, McHenry, Ward, Mountrail and McLean Counties, ND, Wait Period Ends: 01/12/2009, Contact: Alicia Waters, 701-221-1206.

EIS No. 20080510, Final EIS, STB, 00, Elgin, Joliet & Eastern Railroad (Finance Docket No. 35087) Proposed Acquisition by Canadian National (CN) Railway and Grand Trunk Corporation to connect all Five of CN's Rail lines, Chicago, Illinois and Gary, Indiana, Wait Period Ends: 01/12/2009, Contact: Phillis Johnson-Ball, 202-245-0304.

EIS No. 20080511, Final Supplement, USN, 00, Developing Home Port Facilities for Three NIMITZ-Class Aircraft Carriers in Support of the U.S. Pacific Fleet, New Circumstances and Information to Supplements (the 1999 FEIS) Coronado, CA, Wait Period Ends: 01/12/2009, Contact: Robert Montana, 619-556-8509.

EIS No. 20080512, Final EIS, USN, 00, Atlantic Fleet Active Sonar Training Program, To Provide Mid- and High-Frequency Active Sonar Technology and the Improved Ext ended Echo Ranging (IEER) System during Atlantic Fleet Training Exercises, Along the East Coast of United States (U.S.) and in the Gulf of Mexico, Wait Period Ends: 01/05/2009: EPA Approved a Reduce Wait Period because of Compelling Reasons of National Policy Pursuant to 40 CFR Part 1506.10(c). Contact: Todd Williamson, 757-322-8162.

Amended Notices

EIS No. 20080469, Draft EIS, FTA, HI, Honolulu High-Capacity Transit Corridor Project, Provide High-Capacity Transit Service on O'ahu from Kapolei to the University of Hawaii at Manoa and Waikiki, City and County of Honolulu, O'ahu, Hawaii, Comment Period Ends: 01/07/2009, Contact: Ted Matley, 415-744-3133. Revision to FR Notice Published 11/21/2008: Correction to the Federal Agency.

EIS No. 20080497, Draft EIS, STA, 00, Alberta Clipper Pipeline Project, Application for a Presidential Permit to Construction, Operation and Maintenance of Facilities in ND, MN and WI, Comment Period Ends: 01/30/2009, Contact: Elizabeth Orlando, Esq., 202-647-4284. Revision to FR Published 12/05/2008: Extending Comment Period from 01/20/2009 to 01/30/2009.

EIS No. 20080498, Final EIS, NOA, CA, Channel Islands National Marine Sanctuary Management Plan, Implementation, Santa Barbara and Ventura Counties, CA, Wait Period Ends: 01/05/2009, Contact: Chris Mobley, 805-966-7107 ext. 465. Revision to FR Notice Published 12/05/2008: Correction to Status from Final Supplement to Final.

Dated: December 9, 2008.
Robert W. Hargrove,
Director, NEPA Compliance Division, Office of Federal Activities.

[FR Doc. E8-29491 Filed 12-11-08; 8:45 am]

BILLING CODE 6560-50-P